DEPARTMENT OF COMMERCE

United States Patent and Trademark Office

37 CFR Part 1

RIN 0651-AA98

Changes to Implement the Patent Business Goals

AGENCY: United States Patent and Trademark Office, Commerce.

ACTION: Final rule; correction.

SUMMARY: The United States Patent and Trademark Office (Office) published a final rule in the Federal Register of September 8, 2000, revising the rules of practice in patent cases to implement the Patent Business Goals. The Office also published a correction notice in the Federal Register of December 18, 2000, correcting errors in the final rule. This document corrects an error in the correction notice and makes the correction retroactive to December 18, 2000.

EFFECTIVE DATE: December 18, 2000.

FOR FURTHER INFORMATION CONTACT: Hiram H. Bernstein ((703) 305-8713), Senior Legal Advisor, or Robert J. Spar, Director ((703) 308-5107), Office of Patent Legal Administration (OPLA), directly by phone, or by facsimile to (703) 305-1013, marked to the attention of Mr. Bernstein, or by mail addressed to: Box Comments—Patents, Commissioner for Patents, Washington, D.C. 20231.

SUPPLEMENTARY INFORMATION: The Office published a final rule in the Federal Register of September 8, 2000 (65 FR 54604), entitled “Changes to Implement Patent Business Goals,” and a correction notice in the Federal Register of December 18, 2000 (65 FR 78958) correcting errors in the final rule. The correction notice inadvertently indicated that the processing fee for correcting inventorship in a patent under 37 CFR 1.324 is $55.00. The processing fee for correcting inventorship in a patent under § 1.324 is actually $130.00.

In rule FR Doc. 00-31958, published on December 18, 2000 (65 FR 78958), and in 37 CFR Part 1 make the following corrections:

§ 1.20 [Corrected]

1. On page 78960, in the first column, § 1.20, paragraph (b), line 3, correct “$55.00” to read “$130.00”.

Dated: December 19, 2000.
Albin F. Drost,
Acting General Counsel.

[FR Doc. 00-32773 Filed 12-21-00; 8:45 am]

BILLING CODE 3510-16-P